DEPARTMENT OF DEFENSE

Office of the Secretary

Charter Establishment of Department of Defense Federal Advisory Committees

AGENCY: Department of Defense (DoD).

ACTION: Establishment of Federal Advisory Committee.

SUMMARY: The DoD is publishing this notice to announce that it is establishing the charter for the Defense Advisory Committee on Diversity and Inclusion (“the Committee”).

FOR FURTHER INFORMATION CONTACT: Jim Freeman, Advisory Committee Management Officer for the Department of Defense, 703-692-5952.

SUPPLEMENTARY INFORMATION: The Committee's charter is being established in accordance with the Federal Advisory Committee Act (FACA) (5 U.S.C., Appendix) and 41 CFR 102-3.50(d). The charter and contact information for the Committee's Designated Federal Officer (DFO) are found at https://www.facadatabase.gov/FACA/apex/FACAPublicAgencyNavigation.

The Committee shall conduct studies, make findings, and provide recommendations to the Secretary of Defense and the Deputy Secretary of Defense, through the Under Secretary of Defense for Personnel and Readiness (USD(P&R)), on matters and policies relating to improving racial/ethnic diversity, inclusion, and equal opportunity within the DoD. The Committee shall be composed of no more than 20 members, including prominent individuals from academia and the public and private sectors, with experience in one or more of the following disciplines: Defense or national security, organizational or human resources management, constitutional or employment law, and diversity and inclusion.

Committee members who are not full-time or permanent part-time Federal civilian officers, employees, or active duty members of the Uniformed Services, shall be appointed as experts or consultants, pursuant to 5 U.S.C. 3109, to serve as special government employee members. Committee members who are full-time or permanent part-time Federal civilian officers, employees, or active duty members of the Uniformed Services will be appointed pursuant to 41 CFR 102-3.130(a), to serve as regular government employee members.

Committee members are appointed to exercise their own best judgement on behalf of the DoD, without representing any particular point of view, and to discuss and deliberate in a manner that is free from conflicts of interest. Except for reimbursement of official Committee-related travel and per diem, members serve without compensation.

The public or interested organizations may submit written statements to the Committee membership about the Committee's mission and functions. Written statements may be submitted at any time or in response to the stated agenda of planned meeting of the Committee. All written statements shall be submitted to the DFO for the Committee, and this individual will ensure that the written statements are provided to the membership for their consideration.

Dated: August 25, 2020.
Aaron T. Siegel,
Alternate OSD Federal Register, Liaison Officer, Department of Defense.

[FR Doc. 2020-19038 Filed 8-28-20; 8:45 am]

BILLING CODE 5001-06-P